DEPARTMENT OF JUSTICE

Antitrust Division

Notice Pursuant to the National Cooperative Research and Production Act of 1993—Medical Technology Enterprise Consortium

Notice is hereby given that, on April 8, 2019, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Securisyn Medical, LLC, Highlands Ranch, CO; Polaris Alpha Advanced Systems, Inc., Aberdeen Proving Ground, MD; Arrevus, Inc., Raleigh, NC; Initiate Government Solutions, LLC, North Palm Beach, FL; 7-SIGMA Incorporated, Minneapolis, MN; MAE Group, Deerfield, NH; Radical Concepts LLC, Brooklyn, NY; Next Generation Stretcher Ltd, Raman gan, Israel; Pop Test Oncology LLC aka Palisades Therapeutics, Cliffside Park, NJ; George Mason University, Manassas, VA; Phagelux (Canada) Inc., Montréal, CANADA; MY01 Inc., Montreal, CANADA; MilanaPharm, LLC, Tallassee, AL; Leidos, Inc., Reston, VA; InfraScan, Inc., Philadelphia, PA; NuShores Biosciences LLC, Little Rock, AR; Seran Bioscience, Bend, OR; Celularity, Warren, NJ; Droper Med America, LLC, Elgin, SC; tesa Labtec GmbH, Langenfeld, GERMANY; Bio Med Sciences, Inc., Allentown, PA; Uluru Inc., Addison, TX; Trailhead Biosystems Inc., Cleveland, OH; 410 Medical, Inc., Durham, NC; Knowledge Driven LLC, Alexandria, VA; Arsenal Medical, Inc., Watertown, MA; University of North Carolina, Institute for Trauma Recovery, Chapel Hill, NC; Prep Tech, LLC, Westlake, LA; 21 MedTech, LLC, Burlington, NC; Integrum Scientific, LLC, Greensboro, NC; HYPR Life Sciences, Inc., Pilot Mountain, NC; X-Therma Inc., Richmond, CA; VoluMetrix LLC, Nashville, TN; Howmedica Osteonics Corp. dba Stryker Orthopaedics, Mahwah, NJ; NeuEsse Inc., Dunbar, PA; The Geneva Foundation, Tacoma, WA; Scinus Cell Expansion B.V., Bilthoven, THE NETHERLANDS; Akron Biotechnology, LLC, Boca Raton, FL; RoosterBio Inc., Frederick, MD; Aptitude Medical Systems, Santa Barbara, CA; Rho Federal Systems Division, Inc. (RhoFED), Chapel Hill, NC; HeadsafelP Pty Ltd Bronte, AUSTRALIA; Truecath Inc., Camarillo, CA; Solutions Through Innovative Technologies, Inc., Fairborn, OH; Sempulse, LLC, San Marcos, TX; The Curators of the University of Missouri on behalf of the University of Missouri-Kansas City, Kansas City, MO; Cognitive Medical Systems, Inc., San Diego, CA; Hemoclear B.V., Zwolle, NETHERLANDS; Immunexpress Inc., Seattle, WA; Klox Technologies, Inc., Laval, CANADA; Opticyte, Inc., Seattle, WA; Physcient, Inc., Durham, NC; ActiBioMotion, LLC, Coralville, IA; Detact Diagnostics BV, Gronigen, THE NETHERLANDS; SurgiBox Inc., Brookline, MA; Cincinnati Automation & Mechatronics, LLC, Beavercreek, OH; and Molecular Biologicals, Pasadena, TX; have been added as parties to this venture.

Also, Tallinn University of Technology, Tallin, Estonia; National Trauma Institute dba Coalition for National Trauma Research, Marietta, TX; East Carolina University, Greenville, NC; EyeSonix LLC, Long Beach, CA; ElMindA Ltd., Herzliya, ISRAEL; Propagenix Inc., Rockville, MD; Studio Kinection, Inc. dba Kinection, Napa, CA; The Ohio State University, Columbus, OH; Elemance, LLC, Clemmons, NC; J. Craig Venter Institute (JCVI), Rockville, MD; LambdaVision Incorporated, Farmington, CT; Michigan State University, East Lansing, MI; Corvid Technologies, Mooresville, NC; Spire, San Francisco, CA; United Solutions, LLC, Rockville, MD; Aleo BME, Inc., State College, PA; Cell Guidance Systems Ltd, Cambridge, UK; Cole Engineering Services, Inc., Orlando, FL; FlexDex, Inc., Brighton, MI; Fortuna Fix, London, UK; Hypatia Project, Reston, VA; and MiMedx Group Inc., Marietta, GA; have withdrawn as parties to this venture.

No other changes have been made in either the membership or planned activity of the group research project. Membership in this group research project remains open, and MTEC intends to file additional written notifications disclosing all changes in membership.

On May 9, 2014 MTEC filed its original notification pursuant to Section 6(a) of the Act. The Department of Justice published a notice in the Federal Register pursuant to Section 6(b) of the Act on June 9, 2014 (79 FR 32999).

The last notification was filed with the Department on January 28, 2019. A notice was published in the Federal Register pursuant to Section 6(b) of the Act on February 28, 2019 (84 FR 6824).

Suzanne Morris,
Chief, Premerger and Division Statistics Unit, Antitrust Division.

[FR Doc. 2019-08997 Filed 5-1-19; 8:45 am]

BILLING CODE 4410-11-P